DEPARTMENT OF COMMERCE

International Trade Administration

[A-122-857]

Certain Softwood Lumber Products From Canada: Notice of Final Results of Antidumping Duty Changed Circumstances Review

AGENCY: Enforcement and Compliance, International Trade Administration, Department of Commerce.

SUMMARY: On July 15, 2024, the U.S. Department of Commerce (Commerce) published the preliminary results of the changed circumstances review (CCR) of the antidumping duty (AD) order on certain softwood lumber from Canada. For these final results, Commerce continues to find that TRAPA Forest Products Ltd. (TRAPA) is the successor-in-interest to Trans-Pacific Trading Ltd. (Trans-Pacific).

DATES: Applicable September 23, 2024.

FOR FURTHER INFORMATION CONTACT: Robert Bolling, AD/CVD Operations, Office IV, Enforcement and Compliance, International Trade Administration, U.S. Department of Commerce, 1401 Constitution Avenue NW, Washington, DC 20230; telephone: (202) 482-3434.

SUPPLEMENTARY INFORMATION:

Background

On July 15, 2024, Commerce published the preliminary results of this expedited CCR, determining that TRAPA is the successor-in-interest to Trans-Pacific for purposes of determining AD cash deposits and liabilities, and provided all interested parties with an opportunity to comment.¹ No interested party submitted comments on the Preliminary Results. Accordingly, the final results remain unchanged from the Preliminary Results.

¹ See Certain Softwood Lumber from Canada: Notice of Initiation and Preliminary Results of Antidumping Duty Changed Circumstances Review, 89 FR 57394 (July 15, 2024) (Preliminary Results), and accompanying Preliminary Decision Memorandum (PDM).

Scope of the Order

The merchandise subject to the order is certain softwood lumber.² The product is currently classified under the following Harmonized Tariff Schedule of the United States (HTSUS) numbers: 4406.11.0000; 4406.91.0000; 4407.10.01.01; 4407.10.01.02; 4407.10.01.15; 4407.10.01.16; 4407.10.01.17; 4407.10.01.18; 4407.10.01.19; 4407.10.01.20; 4407.10.01.42; 4407.10.01.43; 4407.10.01.44; 4407.10.01.45; 4407.10.01.46; 4407.10.01.47; 4407.10.01.48; 4407.10.01.49; 4407.10.01.52; 4407.10.01.53; 4407.10.01.54; 4407.10.01.55; 4407.10.01.56; 4407.10.01.57; 4407.10.01.58; 4407.10.01.59; 4407.10.01.64; 4407.10.01.65; 4407.10.01.66; 4407.10.01.67; 4407.10.01.68; 4407.10.01.69; 4407.10.01.74; 4407.10.01.75; 4407.10.01.76; 4407.10.01.77; 4407.10.01.82; 4407.10.01.83; 4407.10.01.92; 4407.10.01.93; 4407.11.00.01; 4407.11.00.02; 4407.11.00.42; 4407.11.00.43; 4407.11.00.44; 4407.11.00.45; 4407.11.00.46; 4407.11.00.47; 4407.11.00.48; 4407.11.00.49; 4407.11.00.52; 4407.11.00.53; 4407.12.00.01; 4407.12.00.02; 4407.12.00.17; 4407.12.00.18; 4407.12.00.19; 4407.12.00.20; 4407.12.00.58; 4407.12.00.59; 4407.19.05.00; 4407.19.06.00; 4407.19.10.01; 4407.19.10.02; 4407.19.10.54; 4407.19.10.55; 4407.19.10.56; 4407.19.10.57; 4407.19.10.64; 4407.19.10.65; 4407.19.10.66; 4407.19.10.67; 4407.19.10.68; 4407.19.10.69; 4407.19.10.74; 4407.19.10.75; 4407.19.10.76; 4407.19.10.77; 4407.19.10.82; 4407.19.10.83; 4407.19.10.92; 4407.19.10.93; 4409.10.05.00; 4409.10.10.20; 4409.10.10.40; 4409.10.10.60; 4409.10.10.80; 4409.10.20.00; 4409.10.90.20; 4409.10.90.40; 4418.50.0010; 4418.50.0030; 4418.50.0050; and 4418.99.10.00. Although the HTSUS numbers are provided for convenience and customs purposes, the written product description remains dispositive.

² For a complete description of the scope of the order, Preliminary Results PDM.

Final Results of CCR

For the reasons stated in the Preliminary Results, and because we received no comments from interested parties challenging our preliminary finding, Commerce continues to find that TRAPA is the successor-in-interest to Trans-Pacific. As a result of this determination and consistent with our established practice, we find that TRAPA should receive the AD cash deposit rate previously assigned to Trans-Pacific. Because there are no changes from the Preliminary Results, there is no decision memorandum accompanying this notice and we are adopting the Preliminary Results as the final results of this CCR.

Consequently, Commerce will instruct U.S. Customs and Border Protection to suspend liquidation of all shipments of subject merchandise produced and/or exported by Trans-Pacific and entered, or withdrawn from warehouse, for consumption on or after the publication date of this notice in the Federal Register at 7.80 percent, which is the current AD cash deposit rate for Trans-Pacific.³ This cash deposit requirement shall remain in effect until further notice.

³ See Certain Softwood Lumber Products from Canada: Final Results of Antidumping Duty Administrative Review, Partial Rescission of Administrative Review, and Final Determination of No Shipments; 2022, 89 FR 67067 (August 19, 2024).

Administrative Protective Order

This notice serves as the final reminder to parties subject to an administrative protective order (APO) of their responsibility concerning the disposition of proprietary information disclosed under APO in accordance with 19 CFR 351.305(a)(3). Timely written notification of return or destruction of APO materials or conversion to judicial protective order is hereby requested. Failure to comply with the regulations and terms of an APO is a sanctionable violation.

Notification to Interested Parties

We are issuing this determination and publishing these final results and notice in accordance with sections 751(b)(1) and 777(i)(1) and (2) of the Tariff Act of 1930, as amended, and 19 CFR 351.216(e), 351.221(b), and 351.221(c)(3).

Dated: September 16, 2024.
Abdelali Elouaradia,
Deputy Assistant Secretary for Enforcement and Compliance.

[FR Doc. 2024-21649 Filed 9-20-24; 8:45 am]

BILLING CODE 3510-DS-P